DEPARTMENT OF COMMERCE

National Oceanic and Atmospheric Administration

RIN 0648-XW57

New England Fishery Management Council; Public Meeting

AGENCY: National Marine Fisheries Service (NMFS), National Oceanic and Atmospheric Administration (NOAA), Commerce.

ACTION: Notice of a public meeting.

SUMMARY: The New England Fishery Management Council's (Council) Groundfish/Scallop Advisory Panel will meet to consider actions affecting New England fisheries in the exclusive economic zone (EEZ).

DATES: The meeting will be held on Monday, June 7, 2010 at 9:30 a.m.

ADDRESSES: The meeting will be held at the Hilton Garden Inn, One Thurber Street, Warwick, RI 02886; telephone: (401) 734-9600; fax: (401) 734-9700.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the panel's agenda are as follows:

1. The Joint Groundfish/Scallop Advisory Panel (AP) will meet to consider measures that will facilitate harvesting optimum yield from the two fisheries by addressing the potential constraints of groundfish stock allocations. The Joint AP may also consider measures to reduce catch of groundfish in the scallop fishery by adopting measures that would allow benefits for the fishery from reduction in groundfish catch. These measures will be considered by the Joint Committee at a future date, and may become part of an amendment to the Northeast Multispecies and Scallop Fishery Management Plans.

2. Other business may also be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: May 18, 2010.
Tracey L. Thompson,
Acting Director, Office of Sustainable Fisheries, National Marine Fisheries Service.

[FR Doc. 2010-12291 Filed 5-20-10; 8:45 am]

BILLING CODE 3510-22-S